DEPARTMENT OF THE INTERIOR

Bureau of Land Management

[BLM_NV_FRN_4500178518]

Notice of Availability of the Draft Environmental Impact Statement for the Rhyolite Ridge Lithium-Boron Mine Project, Esmeralda County, Nevada

AGENCY: Bureau of Land Management, Interior.

ACTION: Notice of availability.

SUMMARY: In accordance with the National Environmental Policy Act of 1969, as amended (NEPA), and the Federal Land Policy and Management Act of 1976, as amended (FLPMA), the Bureau of Land Management (BLM) announces the availability of the Draft Environmental Impact Statement (EIS) for the Rhyolite Ridge Lithium-Boron Mine Project proposed by Ioneer Rhyolite Ridge LLC (Ioneer) in Esmeralda County, Nevada.

DATES: To afford the BLM the opportunity to consider comments in the Final EIS, please ensure that the BLM receives your comments within 45 days following the date the Environmental Protection Agency (EPA) publishes its Notice of Availability (NOA) of the Draft EIS in the Federal Register or 15 days after the last public meeting, whichever is later. The EPA usually publishes its NOAs on Fridays.

ADDRESSES: The Draft EIS and documents pertinent to this proposal are available for review on the BLM's National NEPA Register (ePlanning) at https://eplanning.blm.gov/eplanning-ui/project/2012309/510.

Written comments related to the Rhyolite Ridge Lithium-Boron Mine Project may be submitted by any of the following methods:

• BLM's National NEPA Register (ePlanning) at: https://eplanning.blm.gov/eplanning-ui/project/2012309/510.

• Email: BLM_NV_BMDO_P&EC_NEPA@blm.gov.

• Mail: Rhyolite Ridge Lithium-Boron Mine EIS c/o BLM Battle Mountain District Office, 50 Bastian Road, Battle Mountain, NV 89820.

• By fax at: (775) 635-4034.

FOR FURTHER INFORMATION CONTACT: For further information or to have your name added to the mailing list, please send requests to: Scott Distel, Supervisory Project Manager, at telephone (775) 635-4093; address 50 Bastian Road, Battle Mountain, NV 89820; or email sdistel@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Purpose and Need

The BLM's purpose for the action is to respond to Ioneer's proposal, as described in its proposed plan of operations, and to analyze the potential environmental effects associated with the proposed action and alternatives to the proposed action as required by NEPA. The BLM's need for the action is established by the BLM's responsibilities under Section 302 of FLPMA and the BLM surface management regulations at 43 CFR subpart 3809 to respond to a proposed plan of operations.

Alternatives A, B, and C

Under Alternative A, the proposed action, Ioneer is proposing to construct, operate, close, and reclaim a new lithium-boron mine project in Esmeralda County, Nevada. The proposed Rhyolite Ridge Lithium-Boron Mine Project plan of operations boundary would encompass 7,166 acres, which consists of a 6,369-acre operational project area and a 797-acre access road and infrastructure corridor. The total surface disturbance associated with Alternative A, including existing and reclassified disturbance and exploration, would be 2,306 acres of BLM-administered public lands and private land.

The Rhyolite Ridge Lithium-Boron Mine Project would employ a workforce of approximately 400 to 500 employees during initial construction, including both Ioneer staff and contracted personnel, and approximately 350 employees during operations. The Rhyolite Ridge Lithium-Boron Mine Project would operate 24 hours per day, 365 days per year. The total life of the Rhyolite Ridge Lithium-Boron Mine Project would be 23 years, including four years of construction (years 1 through 4), 17 years of quarrying (years 1 through 17), 13 years of ore processing (years 4 through 17), and six additional years of reclamation (years 18 through 23). Reclamation of disturbed areas would be completed in accordance with BLM and Nevada Division of Environmental Protection regulations. Concurrent reclamation would take place where practicable and safe.

The proposed facilities and activities associated with the Rhyolite Ridge Lithium-Boron Mine Project would include:

• A quarry, including a quarry berm and water storage tanks;

• A processing facility, including a contact water pond and diversion channels;

• Three overburden storage facilities (OSF) (North, West, and Quarry Infill), including contact water ponds and diversion channels;

• One spent ore storage facility, including an underdrain pond and diversion channels;

• Project Area exploration, including access routes and drill sites with sumps;

• Haul roads, service roads, and public road realignment;

• Buckwheat exclusion area and critical habitat fencing; and

• Ancillary facilities including an explosives storage area, communication towers including all-terrain vehicle trails, batch plant, proposed water supply testing and facilities including pipelines, sewage system including septic leach fields, dewatering pipeline, growth media stockpiles, stormwater controls and diversions, monitoring wells, laydown yards, and fencing.

Under Alternative B, the North and South OSF Alternative, all mine components and operations would be the same as Alternative A, but the facility layout would be modified to reduce surface disturbance within Tiehm's buckwheat (Eriogonum tiemii) designated critical habitat. Surface disturbance under Alternative B would be less than Alternative A and total approximately 2,271 acres.

Under Alternative C, the No Action Alternative, the development of the Rhyolite Ridge Lithium-Boron Mine Project would not be authorized and Ioneer would not construct, operate, and close a new lithium-boron mine project.

Lead and Cooperating Agencies

The BLM Battle Mountain District Office is the lead agency for the Draft EIS. The Nevada Department of Wildlife, the Nevada Division of Forestry, the U.S. Department of Energy, the U.S. Fish and Wildlife Service—Ecological Services, the U.S. Fish and Wildlife Service—Migratory Birds Program, the U.S. Environmental Protection Agency, and the Esmeralda County Board of County Commissioners participated in this environmental analysis as cooperating agencies. Several Native American Tribes have also requested to participate in the environmental analysis.

Schedule for the Decision-Making Process

Consistent with NEPA and the BLM's land use planning regulations, the BLM will announce a 30-day public availability period when the Final EIS and NOA for the Final EIS is published by the BLM. The Final EIS is anticipated to be available in September of 2024.

Public Involvement Process

The BLM will announce the dates and times of the public meetings for the Draft EIS at least 15 days in advance of the meetings on the BLM's National NEPA Register (ePlanning) website at https://eplanning.blm.gov/eplanning-ui/project/2012309/510. The BLM will hold one in-person public meeting and one virtual public meeting. Information on how to register for the virtual meeting will be posted on the above website.

The purpose of public review of the Draft EIS is to provide an opportunity for meaningful public engagement and for the public to provide substantive comments, such as identification of factual errors, data gaps, relevant methods, or scientific studies. The BLM will respond to substantive comments by making appropriate revisions to the EIS or explaining why a comment did not warrant a change.

The BLM has and will continue to conduct government-to-government consultation with Tribes per Executive Order 13175 and other policies. Agencies will give due consideration to Tribal concerns, including impacts on Indian trust assets and treaty rights and potential impacts to cultural resources.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Douglas W. Furtado,
District Manager.

[FR Doc. 2024-08233 Filed 4-18-24; 8:45 am]

BILLING CODE 4331-21-P